DEPARTMENT OF HOMELAND SECURITY

Coast Guard

33 CFR Part 117

[Docket No. USCG-2011-1119]

Drawbridge Operation Regulation; Pocomoke River, Pocomoke City, MD

AGENCY: Coast Guard, DHS.

ACTION: Notice of temporary deviation from regulations.

SUMMARY: The Commander, Fifth Coast Guard District, has issued a temporary deviation from the regulations governing the operation of the Route 675 Bridge across Pocomoke River, mile 15.6, at Pocomoke City, MD. The deviation restricts the operation of the draw span to facilitate an electrical outage for testing purposes.

DATES: This deviation is effective from 7 a.m. on January 19, 2012 to 5 p.m. on January 20, 2012.

ADDRESSES: Documents mentioned in this preamble as being available in the docket are part of docket USCG-2011-1119 and are available online by going to http://www.regulations.gov, inserting USCG-2011-1119 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Waverly W. Gregory, Jr., Bridge Administrator, Fifth District, Coast Guard; telephone (757) 398-6222, email Waverly.W.GregoryJr@uscg.mil. If you have questions on viewing the docket, call Renee V. Wright, Program Manager, Docket Operations, telephone (202) 366-9826.

SUPPLEMENTARY INFORMATION: An engineering consulting firm on behalf of the Maryland State Highway Administration (SHA), who owns and operates this single leaf bascule drawbridge, has requested a temporary deviation from the current operating schedule to allow for an electrical outage of the bridge for testing purposes. Under the regular operating schedule required by 33 CFR 117.569(b), the bridge opens on signal, except between November 1 and March 31 the draw must open only if at least five hours advance notice is given.

The Route 675 Bridge across Pocomoke River, mile 15.6 at Pocomoke City, MD, has a vertical clearance in the closed position of three feet above mean high water. Under this temporary deviation, the engineering consulting firm has requested to maintain the bridge in the closed position to vessels beginning at 7 a.m. on January 19, 2012 until and including 5 p.m. on January 20, 2012, to allow for an electrical outage of the bridge for testing purposes.

Bridge opening data supplied by SHA and reviewed by the Coast Guard revealed that there were approximately five openings in January 2011.

The Coast Guard has coordinated the restrictions with the local users of the waterway and will inform other users through our Local and Broadcast Notices to Mariners of the closure periods for the bridge so that vessels can arrange their transits to minimize any impact caused by the temporary deviation. There are no alternate routes for vessels transiting this section of the Pocomoke River and the drawbridge will be not able to open in the event of an emergency.

In accordance with 33 CFR 117.35(e), the drawbridge must return to its regular operating schedule immediately at the end of the designated time period.

This deviation from the operating regulations is authorized under 33 CFR 117.35.

Dated: December 14, 2011.
Waverly W. Gregory, Jr.,
Bridge Program Manager, Fifth Coast Guard District.

[FR Doc. 2011-33368 Filed 12-28-11; 8:45 am]

BILLING CODE 9110-04-P